DEPARTMENT OF COMMERCE

Foreign-Trade Zones Board

[B-59-2020]

Foreign-Trade Zone (FTZ) 26—Atlanta, Georgia; Authorization of Limited Production Activity; OFS Fitel, LLC (Optical Fiber Products), Carrollton, Georgia

On September 21, 2020, OFS Fitel, LLC submitted a notification of proposed production activity to the FTZ Board for its facility within FTZ 26, in Carrollton, Georgia.

The notification was processed in accordance with the regulations of the FTZ Board (15 CFR part 400), including notice in the Federal Register inviting public comment (85 FR 61719-619720, September 30, 2020). On January 19, 2021, the applicant was notified of the FTZ Board's decision that further review of part of the proposed activity is warranted. The FTZ Board authorized the production activity described in the notification on a limited basis, subject to the FTZ Act and the Board's regulations, including Section 400.14, and further subject to restrictions requiring that foreign-status optical fiber and optical bundles be admitted to the zone in privileged foreign status (19 CFR 146.41) and that foreign-status standard waterblock and non-waterblock aramid yarn be admitted to the zone in domestic/duty paid status (19 CFR 146.43).

Dated: January 19, 2021.
Elizabeth Whiteman,
Acting Executive Secretary.

[FR Doc. 2021-01534 Filed 1-22-21; 8:45 am]

BILLING CODE 3510-DS-P